SECURITIES AND EXCHANGE COMMISSION

[File No. 500-1]

Americas Energy Company—AECo; Order of Suspension of Trading

February 4, 2013.

It appears to the Securities and Exchange Commission that there is a lack of current and accurate information concerning the securities of Americas Energy Company-AECo (“Americas”) because Americas has not filed any periodic reports since the period ended September 30, 2011. Americas is a Nevada corporation based in Knoxville, Tennessee, and its common stock is currently quoted on OTC Link, operated by OTC Markets Group, Inc., under the symbol AENYQ.

The Commission is of the opinion that the public interest and the protection of investors require a suspension of trading in the securities of Americas.

Therefore, it is ordered, pursuant to Section 12(k) of the Securities Exchange Act of 1934, that trading in the securities of Americas is suspended for the period from 9:30 a.m. EST on February 4, 2013, through 11:59 p.m. EST on February 15, 2013.

By the Commission.
Jill M. Peterson,
Assistant Secretary.

[FR Doc. 2013-02752 Filed 2-4-13; 4:15 pm]

BILLING CODE 8011-01-P